DEPARTMENT OF COMMERCE

International Trade Administration

[Docket No. 060615167-6167-01]

Correction to Notices of Antidumping and Countervailing Duty Decisions

AGENCY: Import Administration, International Trade Administration, Department of Commerce.

ACTION: Notices; correction.

SUMMARY: From September 7, 2005, through November 10, 2005, the Department of Commerce issued notices of antidumping and countervailing duty decisions in which the title of the official signing the notice was incorrect. This document corrects the title of the officials that signed notices during that period.

FOR FURTHER INFORMATION CONTACT: Paige Rivas, U.S. Department of Commerce, 1401 Constitution Avenue, NW., Washington, DC, 20230; telephone: (202) 482-0651.

Background

The Deputy Assistant Secretary for Antidumping and Countervailing Duty Policy and Negotiation (DAS/IA) began serving as the Acting Assistant Secretary for Import Administration on January 9, 2005, when the position became vacant. The DAS/IA assumed this position under the Vacancies Reform Act (VRA) because he is the first principal to the Assistant Secretary. The VRA, however, only permits an individual to serve in an “Acting” capacity for a certain number of days after a vacancy has occurred. In this case, the DAS/IA was permitted to serve in an “Acting” capacity until September 7, 2005. After that time, he/she must revert to his/her original title, but may perform the non-exclusive duties of the vacant office. Through an oversight, the DAS/IA did not cease using the title “Acting” after September 7, 2005. From September 7, 2005 through November 10, 2005, the DAS/IA continued to sign various antidumping and countervailing duty decisions as “Acting Assistant Secretary for Import Administration.” The DAS/IA also, on occasion, delegated those duties to other individuals within the Import Administration, who then signed decisions as “Acting Assistant Secretary for Import Administration. On November 10, 2005, the President nominated an Assistant Secretary for Import Administration. Under the VRA the DAS/IA was authorized to resume (and did resume) service as Acting Assistant Secretary for Import Administration until the Assistant Secretary for Import Administration was sworn into office on January 3, 2006.

Decisions issued by Import Administration from September 7, 2005, through November 10, 2005, were signed by individuals incorrectly using the title “Acting Assistant Secretary for Import Administration”. The Under Secretary for International Trade, on June 19, 2006, designated all of the individuals who signed items in the capacity of Acting Assistant Secretary for Import Administration from September 7, 2005, through November 10, 2005, as “Acting Deputy Under Secretary for International Trade” for purposes of signing those decisions.

Correction

For all notices published by the Import Administration, International Trade Administration, Department of Commerce, in the Federal Register between September 14, 2005 through November 21, 2005,¹ that were dated September 7, 2005, through November 10, 2005, wherever the title “Acting Assistant Secretary for Import Administration” appears in the signature line, correct the title to read “Acting Deputy Undersecretary for International Trade”.

¹ These dates account for the lag time between signature date and date of publication in the Federal Register.

Dated: June 21, 2006.
David M. Spooner,
Assistant Secretary for Import Administration.

[FR Doc. E6-10108 Filed 6-26-06; 8:45 am]

BILLING CODE 3510-DS-P